DEPARTMENT OF THE INTERIOR

Fish and Wildlife Service

Re-opening of the Comment Period for the Draft Recovery Plan for the Pecos Sunflower

AGENCY: U.S. Fish and Wildlife Service, Interior.

ACTION: Notice of re-opening of public comment period.

SUMMARY: We, the U.S. Fish and Wildlife Service (Service), announce a re-opening of the comment period for public review of the draft Recovery Plan for the Pecos sunflower (Helianthus paradoxus) for an additional 30 days. The original comment period was open from July 2, 2004, to August 2, 2004. We are re-opening the comment period in response to specific requests from the Texas Department of Transportation, the Bureau of Land Management, and Laguna Pueblo to allow additional time for public review of this draft Recovery Plan. This draft Recovery Plan includes recovery criteria and measures for the conservation of Pecos sunflower.

DATES: Comments on the draft Recovery Plan must be received on or before October 14, 2004.

ADDRESSES: Persons wishing to review the draft Recovery Plan can obtain a copy from the U.S. Fish and Wildlife Service, New Mexico Ecological Services Field Office, 2105 Osuna NE, Albuquerque, New Mexico, 87113. Requests for copies of the draft Recovery Plan and written comments and materials regarding the draft Recovery Plan should be addressed to the Field Supervisor at the above address. An electronic copy of this draft Recovery Plan is also available at: http://www.fws.gov.

FOR FURTHER INFORMATION CONTACT: Rawles Williams, New Mexico Ecological Services Field Office, at the above address; telephone 505/346-2525, facsimile 505/346-2542.

SUPPLEMENTARY INFORMATION:

Background

Restoring an endangered or threatened animal or plant to the point where it is again a secure, self-sustaining member of its ecosystem is a primary goal of the Service's endangered species program. To help guide the recovery effort, the Service is working to prepare Recovery Plans for most of the listed species native to the United States. Recovery Plans describe actions considered necessary for conservation of species, establish criteria for downlisting or delisting them, and estimate time and cost for implementing the recovery measures needed.

The Endangered Species Act of 1973 (Act), as amended (16 U.S.C. 1531 et seq.) requires the development of Recovery Plans for listed species unless such a Plan would not promote the conservation of a particular species. Section 4(f) of the Act, as amended in 1988, requires that public notice and an opportunity for public review and comment be provided during Recovery Plan development. The Service will consider all information presented during a public comment period prior to approval of each new or revised Recovery Plan. The Service and other Federal agencies will also take these comments into account in the course of implementing Recovery Plans.

On July 2, 2004, we published a Notice of Availability of the Draft Recovery Plan for the Pecos sunflower, opening a 30-day public comment period that ended on August 2, 2004. We received requests from the Texas Department of Transportation, the Bureau of Land Management, and the Laguna Pueblo to extend the comment period so that they might more thoroughly review the plan. Based on these requests, we have re-opened the comment period for 30 days for public review of this draft Recovery Plan.

The Pecos sunflower is a wetland annual plant that grows on wet, alkaline soils at spring seeps, wet meadows and pond margins in New Mexico and West Texas. The threats facing the survival and recovery of this species are the loss and alteration of its wetland habitat due to aquifer depletions, diversions of surface water, and filling wetlands for conversion to dry land; competition from non-native plant species, including Russian olive and saltcedar; excessive livestock grazing; and highway maintenance and mowing. The draft Recovery Plan includes scientific information about the species and provides objectives and actions needed to delist the species. Recovery activities designed to achieve these objectives include identifying and securing core conservation habitats essential for the long-term survival of this species, continuing life history, population, and habitat studies, ensuring compliance with existing regulations, and promoting opportunities for voluntary conservation of the species.

The draft Recovery Plan is being submitted for technical and agency review. After consideration of comments received during the review period, the Recovery Plan will be submitted for final approval.

Public Comments Solicited

The Service solicits written comments on the draft Recovery Plan described. All comments received by the date specified above will be considered prior to approval of the final Recovery Plan.

Authority: The authority for this action is Section 4(f) of the Endangered Species Act, 16 U.S.C. 1533(f).

Dated: August 18, 2004.
Bryan Arroyo,
Acting Regional Director, Region 2,

[FR Doc. 04-20686 Filed 9-13-04; 8:45 am]

BILLING CODE 4310-55-P